DEPARTMENT OF LABOR

Employment and Training Administration

[TA-W-52,614]

Watlow Controls, Winona, MN; Notice of Termination of Investigation

Pursuant to section 221 of the Trade Act of 1974, as amended, an investigation was initiated on August 19, 2003, in response to a worker petition filed on behalf of workers at Watlow Controls, Winona, Minnesota.

The petitioner has withdrawn this petition; thus, further investigation would serve no purpose and the investigation is terminated.

Signed at Washington, DC, this 26th day of August, 2003.
Richard Church,
Certifying Officer, Division of Trade Adjustment Assistance.

[FR Doc. 03-24719 Filed 9-29-03; 8:45 am]

BILLING CODE 4510-30-P